DEPARTMENT OF COMMERCE

International Trade Administration

[A-821-819]

Magnesium Metal from the Russian Federation: Amended Final Results of Antidumping Duty Administrative Review

AGENCY: Import Administration, International Trade Administration, Department of Commerce.

DATES: Effective Date: October 4, 2011.

FOR FURTHER INFORMATION CONTACT: Hermes Pinilla, AD/CVD Operations, Office 5, Import Administration, International Trade Administration, U.S. Department of Commerce, 14th Street and Constitution Avenue, NW., Washington, DC 20230; telephone: (202) 482-3477.

SUPPLEMENTARY INFORMATION:

Background

On September 13, 2011, the Department of Commerce (the Department) published the final results of the administrative review of the antidumping duty order on magnesium metal from the Russian Federation. See Magnesium Metal from the Russian Federation: Preliminary Results of Antidumping Duty Administrative Review, 76 FR 56396 (September 13, 2011) (Final Results).

We received a timely allegation of ministerial errors pursuant to 19 CFR 351.224(c) from US Magnesium LLC, the petitioner, alleging that we relied on unadjusted cost data to calculate constructed value for the respondent, PSC VSMPO-AVISMA Corporation (AVISMA), and that we inadvertently set constructed value selling expenses to zero in the calculations. We agree with the petitioner that the alleged errors are ministerial errors. Therefore, we are hereby amending the Final Results with respect to AVISMA to correct ministerial errors in our calculation of AVISMA's weighted-average margin in accordance with 19 CFR 351.224(e).

For details regarding the ministerial errors, see the memorandum from Hermes Pinilla to the File entitled “Administrative Review of the Antidumping Duty Order on Magnesium Metal from the Russian Federation—Amended Final Results Analysis Memorandum for PSC VSMPO-AVISMA Corporation covering the period April 1, 2009, through March 31, 2010,” concurrently with this notice.

Amended Final Results of the Review

As a result of our correction of ministerial errors, we determine that, for the period April 1, 2009, through March 31, 2010, a weighted-average dumping margin of 22.38 percent exists for AVISMA.

Assessment Rates

The Department shall determine and U.S. Customs and Border Protection (CBP) shall assess antidumping duties on all appropriate entries. In accordance with 19 CFR 351.212(b)(1), we have calculated an importer-specific assessment rate for AVISMA reflecting these amended final results of review.

The Department clarified its “automatic assessment” regulation on May 6, 2003. This clarification will apply to entries of subject merchandise during the POR produced by AVISMA for which AVISMA did not know its merchandise was destined for the United States. In such instances, we will instruct CBP to liquidate unreviewed entries of merchandise produced by AVISMA at the all-others rate if there is no rate for the intermediate company(ies) involved in the transaction. For a full discussion of this clarification, see Antidumping and Countervailing Duty Proceedings: Assessment of Antidumping Duties, 68 FR 23954 (May 6, 2003).

The Department intends to issue instructions to CBP 15 days after the publication of these amended final results of review.

Cash-Deposit Requirements

Because we revoked the order effective April 15, 2010, no cash deposit for estimated antidumping duties on future entries of subject merchandise is required.

Notifications

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of destruction of APO materials or conversion to judicial protective order is hereby requested. Failure to comply with the regulations and the terms of an APO is a sanctionable violation.

We are issuing and publishing this determination and notice in accordance with sections 751(a)(1) and 777(i) of the Tariff Act of 1930, as amended, and 19 CFR 351.224(e).

Dated: September 27, 2011.
Ronald K. Lorentzen,
Deputy Assistant Secretary for Import Administration.

[FR Doc. 2011-25532 Filed 10-3-11; 8:45 am]

BILLING CODE 3510-DS-P